INTERNATIONAL TRADE COMMISSION

[Investigation Nos. 731-TA-457-A-D (Second Review)]

Heavy Forged Hand Tools From China

Determinations

On the basis of the record ¹ developed in the subject five-year reviews, the United States International Trade Commission (Commission) determines, pursuant to section 751(c) of the Tariff Act of 1930 (19 U.S.C. 1675(c)) (the Act), that revocation of the antidumping duty orders on heavy forged hand tools from China would be likely to lead to continuation or recurrence of material injury to industries in the United States within a reasonably foreseeable time.

¹ The record is defined in sec. 207.2(f) of the Commission's Rules of Practice and Procedure (19 CFR 207.2(f)).

Background

The Commission instituted these reviews on July 1, 2005 (70 FR 38197) and determined on October 4, 2005 that it would conduct expedited reviews (70 FR 61156, October 20, 2005).

The Commission transmitted its determinations in these reviews to the Secretary of Commerce on January 31, 2006. The views of the Commission are contained in USITC Publication 3836 (January 2006), entitled Heavy Forged Hand Tools from China: Investigation Nos. 731-TA-457 (Second Review).

By order of the Commission.
Issued: February 1, 2006.
Marilyn R. Abbott,
Secretary to the Commission.

[FR Doc. E6-1637 Filed 2-6-06; 8:45 am]

BILLING CODE 7020-02-P